DEPARTMENT OF ENERGY

Federal Energy Regulatory Commission

Combined Notice of Filings #1

Take notice that the Commission received the following exempt wholesale generator filings:

Docket Numbers: EG22-57-000.

Applicants: Panorama Wind, LLC.

Description: Notice of Self-Certification of Exempt Wholesale Generator Status of Panorama Wind, LLC.

Filed Date: 2/18/22.

Accession Number: 20220218-5257.

Comment Date: 5 p.m. ET 3/11/22.

Take notice that the Commission received the following Complaints and Compliance filings in EL Dockets:

Docket Numbers: EL19-58-012.

Applicants: PJM Interconnection, L.L.C.

Description: Compliance filing: Reserve Compliance Filing Docket Nos. EL19-58, ER19-1486 to be effective 5/1/2022.

Filed Date: 2/22/22.

Accession Number: 20220222-5262.

Comment Date: 5 p.m. ET 3/14/22.

Take notice that the Commission received the following electric rate filings:

Docket Numbers: ER16-2402-002.

Applicants: UGI Utilities Inc.

Description: Compliance filing: UGI Utilities Inc. Compliance Filing to be effective 9/1/2021.

Filed Date: 2/18/22.

Accession Number: 20220218-5216.

Comment Date: 5 p.m. ET 3/11/22.

Docket Numbers: ER21-1130-002.

Applicants: ISO New England Inc., Central Maine Power Company, The United Illuminating Company, Maine Electric Power Company, Inc., Versant Power, Eversource Energy Service Company (as agent), The Connecticut Light and Power Company, NSTAR Electric Company, Public Service Company of New Hampshire, Green Mountain Power Corporation, New England Power Company, New Hampshire Transmission, LLC, Unitil Energy Systems, Inc., Fitchburg Gas and Electric Light Company.

Description: Compliance filing: ISO New England Inc. submits tariff filing per 35: NETOs; ER20-2572-001, ER21-1130-001 & ER22—Compliance Filing to be effective 1/27/2020.

Filed Date: 2/18/22.

Accession Number: 20220218-5219.

Comment Date: 5 p.m. ET 3/11/22.

Docket Numbers: ER21-1709-002.

Applicants: ISO New England Inc., Vermont Transco LLC.

Description: Compliance filing: ISO New England Inc. submits tariff filing per 35: Vermont Transco LLC; Docket ER21-1709 et al. Revised Eff Date for Order No. 864 to be effective 1/27/2020.

Filed Date: 2/22/22.

Accession Number: 20220222-5001.

Comment Date: 5 p.m. ET 3/15/22.

Docket Numbers: ER22-290-001.

Applicants: Oakland Power Company LLC.

Description: Compliance filing: Notice of Implementation of Capital Items to be effective 1/1/2022.

Filed Date: 2/22/22.

Accession Number: 20220222-5218.

Comment Date: 5 p.m. ET 3/15/22.

Docket Numbers: ER22-1086-000.

Applicants: ISO New England Inc., Central Maine Power Company, The United Illuminating Company, Maine Electric Power Company, Inc., Versant Power, Eversource Energy Service Company (as agent), Green Mountain Power Corporation, New England Power Company, New Hampshire Transmission, LLC, Unitil Energy Systems, Inc., Fitchburg Gas and Electric Light Company, Vermont Electric Power Company, Inc., Vermont Transco LLC.

Description: Compliance filing: ISO New England Inc. submits tariff filing per 35: NETOs; ER20-2572-001; ER21-1130-001 & ER22—to be effective 1/1/2022.

Filed Date: 2/22/22.

Accession Number: 20220222-5000.

Comment Date: 5 p.m. ET 3/15/22.

Docket Numbers: ER22-1087-000.

Applicants: PacifiCorp.

Description: § 205(d) Rate Filing: Powerex Construction and Security Agreement to be effective 2/22/2022.

Filed Date: 2/22/22.

Accession Number: 20220222-5011.

Comment Date: 5 p.m. ET 3/15/22.

Docket Numbers: ER22-1088-000.

Applicants: BIF II Safe Harbor Holdings, LLC.

Description: § 205(d) Rate Filing: Revised Market-Based Rate Tariff to be effective 2/23/2022.

Filed Date: 2/22/22.

Accession Number: 20220222-5063.

Comment Date: 5 p.m. ET 3/15/22.

Docket Numbers: ER22-1089-000.

Applicants: Jackson Generation, LLC.

Description: Initial rate filing: Reactive Power Rate Schedule and Request for Waiver and Expedited Action to be effective 4/1/2022.

Filed Date: 2/22/22.

Accession Number: 20220222-5070.

Comment Date: 5 p.m. ET 3/15/22.

Docket Numbers: ER22-1090-000.

Applicants: Southwest Power Pool, Inc.

Description: § 205(d) Rate Filing: 2486R1 ITC Great Plains/NPPD/Midwest Interconnection Agr to be effective 5/1/2022.

Filed Date: 2/22/22.

Accession Number: 20220222-5079.

Comment Date: 5 p.m. ET 3/15/22.

Docket Numbers: ER22-1091-000.

Applicants: AEP Texas Inc.

Description: § 205(d) Rate Filing: AEPTX-BRP Carina BESS 1st A&R Generation Interconnection Agreement to be effective 2/11/2022.

Filed Date: 2/22/22.

Accession Number: 20220222-5121.

Comment Date: 5 p.m. ET 3/15/22.

Docket Numbers: ER22-1092-000.

Applicants: Southern California Edison Company.

Description: Tariff Amendment: Notice of Cancellation EDP Ltr Agreement SCE and Falcon Energy SA No. 1143 to be effective 4/25/2022.

Filed Date: 2/22/22.

Accession Number: 20220222-5137.

Comment Date: 5 p.m. ET 3/15/22.

Docket Numbers: ER22-1093-000.

Applicants: PacifiCorp.

Description: Tariff Amendment: Termination of RS 740 LVE Const Agmt for Threemile Knoll—Hooper Springs to be effective 4/23/2022.

Filed Date: 2/22/22.

Accession Number: 20220222-5247.

Comment Date: 5 p.m. ET 3/15/22.

Docket Numbers: ER22-1094-000.

Applicants: California Independent System Operator Corporation.

Description: § 205(d) Rate Filing: 2022-02-22 Intertie Deviation Settlements—Clarification to be effective 12/31/9998.

Filed Date: 2/22/22.

Accession Number: 20220222-5255.

Comment Date: 5 p.m. ET 3/15/22.

Docket Numbers: ER22-1095-000.

Applicants: KCE NY 6, LLC.

Description: Baseline eTariff Filing: Baseline new to be effective 2/22/2022.

Filed Date: 2/22/22.

Accession Number: 20220222-5268.

Comment Date: 5 p.m. ET 3/15/22.

Take notice that the Commission received the following electric reliability filings.

Docket Numbers: RD22-3-000.

Applicants: North American Electric Reliability Corporation.

Description: Application of the North American Electric Reliability Corporation for Approval of Modification to the Compliance Section of Reliability Standard CIP-014.

Filed Date: 2/16/22.

Accession Number: 20220216-5230.

Comment Date: 5 p.m. ET 3/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2022.
Debbie-Anne A. Reese,
Deputy Secretary.

[FR Doc. 2022-04129 Filed 2-25-22; 8:45 am]

BILLING CODE 6717-01-P